DEPARTMENT OF TRANSPORTATION

National Highway Traffic Safety Administration

[Docket No. NHTSA-2015-0074; Notice 1]

Baby Jogger, LLC, Receipt of Petition for Decision of Inconsequential Noncompliance

AGENCY: National Highway Traffic Safety Administration (NHTSA), Department of Transportation (DOT).

ACTION: Receipt of petition.

SUMMARY: Baby Jogger, LLC (Baby Jogger), has determined that certain Baby Jogger rear-facing infant seats and bases do not fully comply with paragraphs S5.5, S5.6, S5.8, and S8.1 of Federal Motor Vehicle Safety Standard (FMVSS) No. 213, Child Restraint Systems. Baby Jogger has filed an appropriate report dated June 4, 2015, pursuant to 49 CFR part 573, Defect and Noncompliance Responsibility and Reports.

DATES: The closing date for comments on the petition is October 8, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments.

Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. Overview

Pursuant to 49 U.S.C. 30118(d) and 30120(h) (see implementing rule at 49 CFR part 556), Baby Jogger submitted a petition for an exemption from the notification and remedy requirements of 49 U.S.C. Chapter 301 on the basis that this noncompliance is inconsequential to motor vehicle safety.

This notice of receipt of Baby Jogger's petition is published under 49 U.S.C. 30118 and 30120 and does not represent any agency decision or other exercise of judgment concerning the merits of the petition.

II. Child Restraints Involved

Affected are approximately 15,103 of the following Baby Jogger rear-facing infant seats and bases manufactured between November 3, 2014 and April 30, 2015:

• City GO Infant Car Seat/Model No. BJ64510

• City GO Infant Car Seat/Model No. BJ64529

• City GO Base for Infant Car Seat/Model No. BJ80400

• City GO Base for Infant Car Seat/Model No. BJ61500

• City Mini Infant Cars Seat/Stroller Travel System/Model No.BJ72510

• Vue Lite Infant Car Seat/Stroller Travel System/Model No. BJ70411

• Vue Lite Infant Car Seat/Stroller Travel System/Model No. BJ70424

• Vue Lite Infant Car Seat/Stroller Travel System/Model No. BJ70431

III. Noncompliances

Baby Jogger explains that the affected child restraints do not fully comply with the numerous paragraphs of FMVSS No. 213 for the following reasons:

Paragraph S5.5.2—The required information in English is no smaller than 10 point type, but the Spanish information is smaller at about 7 point type. This only applies to models BJ64510 and BJ64529.

Paragraph S5.5.2(d)—The “manufactured in address” on the label is in about 8 font which is smaller than the required 10 point type.

Paragraph S5.5.2(m)—The required “Child restraints could be recalled for safety reasons . . .” text is on a black background with white text instead of black text on a white background.

Paragraph S5.5.2(g)(1)—The label has the “Follow all instructions. . .” ahead of the “Secure this child restraint statement . . .” instead of the reverse order as required. This noncompliance only affects models BJ64510 and BJ64529.

Paragraph S5.5.2(n)—The label has “This child restraint is certified for use in motor vehicles and aircraft.” Other than the first word, no words other words are capitalized.

Paragraph S5.5.2.(k)(3)(ii)—The message area measures 23.4 square cm on models BJ70411, BJ70424 and BJ70431 which is less than the minimum required message area of 30 square cm.

Paragraph S5.5.2.(k)(3)(iii)—On models BJ70411, BJ70424 and BJ70431 the red circle on the required pictogram is 29mm in diameter which is less than the required 30mm in diameter.

Paragraph S5.6.1.7—The instruction manuals do not include reference to the required Web site in the section regarding child restraint recalls.

Paragraph S5.6.3—The instruction manuals do not include the required statement “A snug strap should not allow any slack . . .”

Paragraph S5.8.2(a)(1)—The electronic registration form does not have the required statement “FOR YOUR CHILD'S CONTINUED SAFETY . . .”

Paragraph S5.8.1(b)(2)—Figure 9a requires minimum 10% screen tint on the lower half of the form. The form is missing the required tinting.

Paragraph S8.1—No instructions for installing the system in an aircraft passenger seat were provided.

IV. Summary of Baby Jogger's Analyses

Baby Jogger organized its reasoning to substantiate inconsequentiality into the following five groupings that it believes are similar issues between the numerous noncompliances:

a. Information Type Size/Capitalization/Presentation order

b. Background color

c. On-Product Label Message Area and Pictogram Sizes

d. Omitted Information

e. Spanish Language Type Size

Refer to Baby Jogger's petition for their complete reasoning and associated illustrations. To view the petition and all supporting documents log onto the Federal Docket Management System (FDMS) Web site at: http://www.regulations.gov/. Then follow the online search instructions to locate docket number “NHTSA-2015-0074.”

Baby Jogger additionally informed NHTSA that they have corrected all labeling noncompliances and that all future productions of the infant car seat/stroller systems and stand-alone units will be in full compliance with FMVSS No. 213.

In summation, Baby Jogger believes that the described noncompliance of the subject infant car seat/stroller systems and standalone units is inconsequential to motor vehicle safety, and that its petition, to exempt Baby Jogger from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject child restraints that Baby Jogger no longer controlled at the time it determined that the noncompliance existed. However, any decision on this petition does not relieve child restraint distributors and dealers of the prohibitions on the sale, offer for sale, or introduction or delivery for introduction into interstate commerce of the noncompliant child restraints under their control after Baby Jogger notified them that the subject noncompliance existed.

Authority: 49 U.S.C. 30118, 30120: delegations of authority at 49 CFR 1.95 and 501.8.

Jeffrey Giuseppe,
Director, Office of Vehicle Safety Compliance.

[FR Doc. 2015-22573 Filed 9-4-15; 8:45 am]

BILLING CODE 4910-59-P